DEPARTMENT OF ENERGY

Federal Energy Regulatory Commission

Combined Notice of Filings #1

Take notice that the Commission received the following electric rate filings:

Docket Numbers: ER12-1170-002.

Applicants: Imperial Valley Solar Company (IVSC) 1, LLC.

Description: Amendment to Market-Based Rate Tariff Application to be effective 6/29/2012.

Filed Date: 5/15/12.

Accession Number: 20120515-5233.

Comments Due: 5 p.m. ET 6/5/12.

Docket Numbers: ER12-1782-001.

Applicants: Duke Energy Carolinas, LLC.

Description: Amendment to Filing ER12-1782 to be effective 6/1/2011.

Filed Date: 5/15/12.

Accession Number: 20120515-5065.

Comments Due: 5 p.m. ET 6/5/12.

Docket Numbers: ER12-1786-000.

Applicants: California Independent System Operator Corporation.

Description: 2012-05-15 Desert Sunlight LGIA Amendment to be effective 9/7/2011.

Filed Date: 5/15/12.

Accession Number: 20120515-5038.

Comments Due: 5 p.m. ET 6/5/12.

Docket Numbers: ER12-1787-000.

Applicants: California Independent System Operator Corporation.

Description: 2012-05-15 North Sky River LGIA to be effective 8/9/2011.

Filed Date: 5/15/12.

Accession Number: 20120515-5043.

Comments Due: 5 p.m. ET 6/5/12.

Docket Numbers: ER12-1788-000.

Applicants: PJM Interconnection, L.L.C.

Description: Original Service Agreement No. 3283; Queue No. X1-037 to be effective 4/11/2012.

Filed Date: 5/15/12.

Accession Number: 20120515-5044.

Comments Due: 5 p.m. ET 6/5/12.

Docket Numbers: ER12-1789-000.

Applicants: PJM Interconnection, L.L.C.

Description: Original Service Agreement No. 3315; Queue No. X3-007 to be effective 4/24/2012.

Filed Date: 5/15/12.

Accession Number: 20120515-5061.

Comments Due: 5 p.m. ET 6/5/12.

Docket Numbers: ER12-1790-000.

Applicants: PJM Interconnection, L.L.C.

Description: Original Service Agreement No. 3314; Queue No. X1-090 to be effective 4/24/2012.

Filed Date: 5/15/12.

Accession Number: 20120515-5076.

Comments Due: 5 p.m. ET 6/5/12.

Docket Numbers: ER12-1791-000.

Applicants: Public Service Company of Colorado.

Description: 2012-5-15-NEW Schedule-4B-PSCo to be effective 6/15/2012.

Filed Date: 5/15/12.

Accession Number: 20120515-5091.

Comments Due: 5 p.m. ET 6/5/12.

Docket Numbers: ER12-1792-000.

Applicants: Community Energy, Inc.

Description: Baseline MBR Tariff to be effective 7/14/2012.

Filed Date: 5/15/12.

Accession Number: 20120515-5136.

Comments Due: 5 p.m. ET 6/5/12.

Docket Numbers: ER12-1793-000.

Applicants: PJM Interconnection, L.L.C., Commonwealth Edison Company, Commonwealth Edison Company of Indiana.

Description: ComEd submits revisions to PJM Tariff Attachment H-13A to be effective 6/1/2012.

Filed Date: 5/15/12.

Accession Number: 20120515-5154.

Comments Due: 5 p.m. ET 6/5/12.

Docket Numbers: ER12-1794-000.

Applicants: Hartford Steam Company, LLC.

Description: Notice of Succession to be effective 5/16/2012.

Filed Date: 5/15/12.

Accession Number: 20120515-5179.

Comments Due: 5 p.m. ET 6/5/12.

Docket Numbers: ER12-1795-000.

Applicants: ISO New England Inc.

Description: ISO-NE Files Quarterly Capital Budget Report.

Filed Date: 5/14/12.

Accession Number: 20120514-5197.

Comments Due: 5 p.m. ET 6/4/12.

Docket Numbers: ER12-1796-000.

Applicants: Northern States Power Company, a Wisconsin corporation.

Description: 2012_5_15_NSPW TREMP Const Intercon Fac Agrmt-117 to be effective 5/9/2012.

Filed Date: 5/15/12.

Accession Number: 20120515-5213.

Comments Due: 5 p.m. ET 6/5/12.

Docket Numbers: ER12-1797-000.

Applicants: San Diego Gas & Electric Company.

Description: Amended & Restated Quail Brush E&P Agreement to be effective 5/16/2012.

Filed Date: 5/15/12.

Accession Number: 20120515-5221.

Comments Due: 5 p.m. ET 6/5/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 16, 2012.
Nathaniel J. Davis, Sr.,
Deputy Secretary.

[FR Doc. 2012-12469 Filed 5-22-12; 8:45 am]

BILLING CODE 6717-01-P